DEPARTMENT OF ENERGY

Federal Energy Regulatory Commission

[Docket No. RP99-518-050]

PG&E Gas Transmission, Northwest Corporation; Notice of Tariff Filing

October 2, 2003.

Take notice that on September 30, 2003, PG&E Gas Transmission, Northwest Corporation (GTN) tendered for filing to be part of its FERC Gas Tariff, Second Revised Volume No. 1-A., Eighteenth Revised Sheet No. 15, First Revised Sheet No. 17, Fourth Revised Sheet No. 18, and Third Revised Sheet No. 21B, with an effective date of October 1, 2003.

GTN states that these sheets are being filed to update GTN's reporting of negotiated rate transactions that it has entered into.

GTN further states that a copy of this filing has been served on GTN's jurisdictional customers and interested state regulatory agencies.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Protest Date: October 14, 2003.

Magalie R. Salas,
Secretary.

[FR Doc. E3-00008 Filed 10-8-03; 8:45 am]

BILLING CODE 6717-01-P